DEPARTMENT OF ENERGY

Federal Energy Regulatory Commission

Notice of Effectiveness of Exempt Wholesale Generator Status

| Docket No.
Michigan Wind 2, LLC | EG11-100-000
Bishop Hill Energy LLC | EG11-101-000
Bishop Hill Energy III LLC | EG11-102-000
Bishop Hill Energy II LLC | EG11-103-000
CSOLAR IV South, LLC | EG11-104-000
Gratiot County Wind LLC | EG11-105-000
Invenergy Wind Development Michigan LLC | EG11-106-000
Trinity Hills Wind Farm LLC | EG11-107-000
High Plains Ranch II, LLC | EG11-108-000
Double “C” Limited | EG11-109-000
High Sierra Limited | EG11-110-000
Kern Front Limited | EG11-111-000
Cogentrix of Alamosa, LLC | EG11-112-000
Hudson Ranch Power I LLC | EG11-113-000
TPW Petersburg, LLC | EG11-114-000

Take notice that during the month of September 2011, the status of the above-captioned entities as Exempt Wholesale Generators became effective by operation of the Commission's regulations. 18 CFR 366.7(a).

Dated: October 17, 2011.
Kimberly D. Bose,
Secretary.

[FR Doc. 2011-27318 Filed 10-21-11; 8:45 am]

BILLING CODE 6717-01-P